DEPARTMENT OF HOUSING AND URBAN DEVELOPMENT

[Docket No. FR-4910-N-23]

Notice of Proposed Information Collection for Public Comment; Procedure for Obtaining Certificates of Insurance for Capital Program Projects

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: December 27, 2004.

ADDRESSES: Interested persons are invited to submit comments regarding this proposal. Comments should refer to the proposal by name/or OMB Control number and should be sent to: Wayne Eddins, Reports Management Officer, Department of Housing and Urban Development, 451 7th Street, SW., L'Enfant Plaza Building, Room 8003, Washington, DC 20410-5000 or Wayne_Eddins@hud.gov.

FOR FURTHER INFORMATION CONTACT: Aneita Waites, (202) 708-0713, extension 4114, for copies of the proposed forms and other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Procedure for obtaining certificates of insurance for capital program projects.

OMB Control Number: 2577-0046.

Description of the need for the information and proposed use: Public Housing Agencies must obtain certificates of insurance from contractors and subcontractors before beginning work under either the development of a new low-income public housing projects or the modernization of an existing project. The certificates of insurance provide evidence that worker's compensation and general liability, automobile liability insurance are in force before and construction work is started.

Agency form number, if applicable: Not applicable.

Members of affected public: Business or other For-Profit, State, Local or Tribal Government.

Estimation of the total number of hours needed to prepare the information collection including number of respondents:

Number of respondents | × | Frequency of response | × | Hours per response | = | Burden hours
3,000 |  | 4 |  | .50 |  | 6,000

Estimation of total number of hours needed for record keeping: Number of respondents 3,000 × Frequency of Response 4 × Hours per Response .20 = 2,400.

Total Estimated Burden Hours: 8,400.

Status of the proposed information collection: Extension of currently approved collection.

Authority: Section 3506 of the Paperwork Reduction Act of 1995, 44 U.S.C. Chapter 35, as amended.

Dated: October 25, 2004.
Paula O. Blunt,
General Deputy Assistant Secretary for Public and Indian Housing.

[FR Doc. E4-2905 Filed 10-27-04; 8:45 am]

BILLING CODE 4210-27-P